UNIFIED CARRIER REGISTRATION PLAN

Sunshine Act Meetings Notice; Unified Carrier Registration Plan Board of Directors Meeting

TIME AND DATE: June 8, 2021, from 12:00 p.m. to 3:00 p.m., Eastern time.

PLACE: This meeting will be accessible via conference call and screensharing. Any interested person may call 877-853-5247 (U.S. toll free), 888-788-0099 (U.S. toll free), +1 929-205-6099 (U.S. toll), or +1 669-900-6833 (U.S. toll), Conference ID 945 5272 6109, to participate in the meeting. The website to participate via Zoom meeting and screenshare is https://kellen.zoom.us/j/94552726109.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

The proposed Agenda will be reviewed, and the Board will consider adoption.

Ground Rules

➢ Board actions taken only in designated areas on agenda

IV. Approval of Minutes of the April 22, 2021 UCR Board Meeting—UCR Board Chair

For Discussion and Possible Action

Draft Minutes of the April 22, 2021 UCR Board meeting will be reviewed. The Board will consider action to approve.

V. Report of the Federal Motor Carrier Safety Administration (FMCSA)—FMCSA Representative

The FMCSA will provide a report on any relevant activity.

VI. Updates Concerning UCR Legislation—UCR Board Chair

The UCR Board Chair will call for any updates regarding UCR legislation since the last Board meeting.

VII. Chief Legal Officer Report—UCR Chief Legal Officer

The UCR Chief Legal Officer will provide an update on the status of the March 2019 data event.

VIII. New Master Services Agreement Between the UCR Plan and Seikosoft—UCR Board Chair, UCR Chief Legal Officer, and UCR Executive Director

For Discussion and Possible Action

The UCR Board Chair, the UCR Chief Legal Officer, and the UCR Executive Director will lead a discussion on a new proposed Master Services Agreement between the UCR Plan and Seikosoft as the current Master Services Agreement expires on September 30, 2021. The Board may decide to adopt a new Master Services Agreement between the UCR Plan and Seikosoft containing additional developer assistance beginning June 15, 2021.

IX. Discussion of the Final Report Received From the UCR Plan's External Auditor Regarding the Audited Statements of Cash Receipts and Disbursements of the Depository for the Calendar Years Ended December 31, 2019 and December 31, 2018—UCR Chief Legal Officer and UCR Executive Director

The UCR Chief Legal Officer and the UCR Executive Director will lead a discussion of the Final Audit Report of Audited Statements of Cash Receipts and Disbursements of the Depository for Calendar Years Ended December 31, 2019 and December 31, 2018 from our external auditor, Williams Benator and Libby, LLP, including a material weakness identified in a letter dated May 12, 2021.

X. Subcommittee Reports

Audit Subcommittee—UCR Audit Subcommittee Chair

A. 2021 Inspection Audits—UCR Audit Subcommittee Vice-Chair

For Discussion and Possible Action

The Audit Subcommittee Vice-Chair will lead a discussion regarding possibly requiring participating states to audit 100% of the motor carriers identified through roadside inspection. The Board may take action to require participating states to audit all unregistered motor carriers identified through roadside enforcement. The UCR Audit Subcommittee recommends that the Board adopt this action.

B. Review the Current Focused Anomaly Reviews (FARs) Audits Assigned to the States—UCR Audit Subcommittee Vice-Chair

For Discussion and Possible Action

The UCR Audit Subcommittee Vice-Chair will lead a discussion regarding the current number of FARs assigned to the states and consider options to increase the number of FARs assigned. The Board may take action to increase the number of FARs required to be processed annually by each participating state. The UCR Audit Subcommittee recommends that the Board adopt this action.

C. Definition of Commercial Motor Vehicle for UCR Purposes—UCR Audit Subcommittee Chair and UCR Executive Director

For Discussion and Possible Action

The UCR Audit Subcommittee Chair and the UCR Executive Director will provide proposed modifications to the definition of a “Commercial Motor Vehicle” for UCR purposes. The proposed changes are intended to include clarifying language while retaining the definition of Commercial Motor Vehicle as set forth by reference to the UCR Act (49 U.S. Code 31101.) The Board may take action to adopt the proposed modifications for inclusion in the UCR Handbook. The UCR Audit Subcommittee recommends that the Board adopt the proposed modifications to this definition.

D. State UCR Audit Reports for Registration Year 2020—UCR Audit Subcommittee Chair

The UCR Audit Subcommittee Chair will lead a discussion regarding the states' obligations to complete audit reports for registration year 2020 and discuss the preliminary status of audit reports for registration year 2020 that were due on June 1, 2021.

Finance Subcommittee—UCR Finance Subcommittee Chair

• UCR Registration Fee Recommendation for 2023—Calculation Methodology—UCR Finance Subcommittee Chair and UCR Depository Manager

For Discussion and Possible Action

The UCR Finance Subcommittee Chair and the UCR Depository Manager will lead a discussion regarding the merits of using an “average collections” method for estimating the remaining fees collected before the end of the 2021 registration year on September 30, 2022 versus the “minimum collections” method used for estimating fee collections over the same period. The Board may take action to select the most appropriate method to use. The UCR Finance Subcommittee recommends that the Board adopt the “average collections” method for calculating and recommending the UCR registration fee to the U.S. Department of Transportation Secretary and FMCSA for the 2023 UCR registration year.

Education and Training Subcommittee—UCR Education and Training Subcommittee Chair

• Update on Basic Audit Training Module and Flow Chart/Decision Tree—UCR Education and Training Subcommittee Chair

The UCR Education and Training Subcommittee Chair will provide an update on the development of the Basic Audit Training Module and Flow Chart/Decision Tree and other possible training modules going forward.

XI. Contractor Reports—UCR Executive Director

• UCR Executive Director's Report

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the National Registration System.

• UCR Administrator Report (Kellen)—UCR Operations and Depository Manager

The UCR Staff will provide a management report covering recent activity for the Depository, Operations, and Communications.

XII. Other Business—UCR Board Chair

The UCR Board Chair will call for any other items Board members would like to discuss.

XIII. Adjournment—UCR Board Chair

The UCR Board Chair will adjourn the meeting.

This agenda will be available no later than 5:00 p.m. Eastern time, May 28, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-11655 Filed 5-28-21; 4:15 pm]

BILLING CODE 4910-YL-P